FEDERAL COMMUNICATIONS COMMISSION

47 CFR Part 54

[CC Docket No. 02-6; FCC 04-289]

Rural Health Care Support Mechanism

AGENCY: Federal Communications Commission.

ACTION: Final rule, correction.

SUMMARY: This document corrects an error in the DATES section of a Federal Register document regarding the Commission modifying it rules to improve the effectiveness of the rural health care universal service support mechanism.

DATES: Effective March 15, 2006.

FOR FURTHER INFORMATION CONTACT: Regina Brown and Dana Bradford, Attorneys, Telecommunications Access Policy Division, Wireline Competition Bureau, (202) 418-7400.

SUPPLEMENTARY INFORMATION: This summary contains a correction to the DATES section of a Federal Register summary, 70 FR 6365, February 7, 2005. The full text of the Commission's Report and Order, and Order on Reconsideration, in CC Docket No. 02-6, FCC 04-289 released on December 17, 2004 is available for public inspection during regular business hours in the FCC Reference Center, Room CY-A257, 445 Twelfth Street, SW., Washington, DC 20554.

In rule FR Doc. 05-2269 published February 7, 2005, 70 FR 6365 make the following correction.

On page 6365, in the second column, in the DATES section, replace “§ 54.621(c)” with “§ 54.619.”

Federal Communications Commission.
Marlene H. Dortch,
Secretary.

[FR Doc. 06-2332 Filed 3-14-06; 8:45 am]

BILLING CODE 6712-01-P